FEDERAL COMMUNICATIONS COMMISSION

47 CFR Part 73

[DA 01-2880; MM Docket No. 99-259; RM-9685, RM-9775]

Radio Broadcasting Services; Soperton, Swainsboro, and East Dublin, GA

AGENCY: Federal Communications Commission.

ACTION: Final rule.

SUMMARY: At the request of Lacom Communications, Inc. this document substitutes Channel 251C3 for Channel 251A at Swainsboro, Georgia, reallots Channel 251C3 to East Dublin, Georgia, and modifies the Station WELT license to specify operation on Channel 251C3 at East Dublin, Georgia. See 64 FR 39964, published July 23, 1999. In doing so, this document denies a proposal filed by John Morgan Dowdy proposing a Channel 253A allotment at Soperton, Georgia. The reference coordinates for the Channel 251C3 allotment at East Dublin, Georgia, are 32-33-28 and 82-42-10.

DATES: Effective January 2, 2002.

FOR FURTHER INFORMATION CONTACT: Robert Hayne, Mass Media Bureau (202) 418-2177.

SUPPLEMENTARY INFORMATION: This is a synopsis of the Commission's Report and Order in MM Docket No. 99-259, adopted November 14, 2001, and released November 16, 2002. The full text of this decision is available for inspection and copying during normal business hours in the FCC's Reference Information Center at Portals II, CY-A257, 445 12th Street, SW., Washington, D.C. The complete text of this decision may also be purchased from the Commission's copy contractor, Qualex International, Portals ll, 445 12th Street, SW., Room CY-B402, Washington, D.C. 20554, telephone 202-863-2893, facsimile 202-863-2898, or via e-mail qualexint@aol.com.

List of Subjects in 47 CFR part 73

Radio Broadcasting.

Part 73 of Title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Georgia, is amended by removing Channel 251A, Swainsboro, and adding East Dublin, Channel 251C3.

Federal Communications Commission.
John A. Karousos,
Chief, Allocations Branch, Policy and Rules Division, Mass Media Bureau.

[FR Doc. 01-29873 Filed 11-30-01; 8:45 am]

BILLING CODE 6712-01-P